EXECUTIVE OFFICE OF THE PRESIDENT

Office of National Drug Control Policy

Designation of Nine Counties as High Intensity Drug Trafficking Areas

ACTION: Notice.

SUMMARY: The Director of the Office of National Drug Control Policy designated nine additional counties as High Drug Trafficking Areas pursuant to 21 U.S.C. 1706. The new counties are (1) Shelby County in Tennessee as part of the Gulf Coast HIDTA, (2) Navajo County in Arizona as part of the Southwest Border HIDTA—Arizona Region, (3) Jefferson County in New York as part of the New York/New Jersey HIDTA, (4) Mecklenburg, Gaston, Union Buncombe, Henderson, and McDowell Counties in North Carolina as part of the Atlanta HIDTA.

FURTHER INFORMATION: Question regarding this notice should be directed to Mr. Arnold Moorin, National HIDTA Program Director, Office of National Drug Control Policy, Executive Office of the President, Washington, DC 20503. (202) 368-8423.

Signed at Washington, DC, this 18th day of August 2010.
Daniel R. Petersen,
Deputy General Counsel.

[FR Doc. 2010-21320 Filed 8-26-10; 8:45 am]

BILLING CODE 3180-02-P